ENVIRONMENTAL PROTECTION AGENCY

40 CFR Part 63

[EPA-HQ-OAR-2002-0093; FRL-8260-7]

RIN 2060-AN10

National Emission Standards for Hazardous Air Pollutants: Surface Coating of Automobiles and Light-Duty Trucks

AGENCY: Environmental Protection Agency (EPA).

ACTION: Direct final rule.

SUMMARY: EPA is taking direct final action on amendments to the National Emission Standards for Hazardous Air Pollutants: Surface Coating of Automobiles and Light-Duty Trucks (Automobiles and Light-Duty Trucks NESHAP) which were promulgated on April 26, 2004, under the authority of section 112(d) of the Clean Air Act. The direct final rule amendments provide the option of including surface coating of heavier motor vehicles under this rule. This action also makes direct final rule amendments to the National Emission Standards for Hazardous Air Pollutants for Surface Coating of Miscellaneous Metal Parts and Products (Miscellaneous Metal Parts NESHAP) and the National Emission Standards for Hazardous Air Pollutants for Surface Coating of Plastic Parts and Products (Plastic Parts NESHAP) to maintain consistency between these rules and the Automobiles and Light-Duty Trucks NESHAP.

DATES: The direct final rule is effective on February 20, 2007 without further notice, unless EPA receives adverse written comment by January 22, 2007 or by February 5, 2007 if a public hearing is requested by January 2, 2007. If adverse comments are received, EPA will publish a timely withdrawal in the Federal Register indicating which amendments, sections, or paragraphs will become effective and which are being withdrawn due to adverse comment. If anyone contacts EPA requesting to speak at a public hearing, a public hearing will be held on January 8, 2007.

ADDRESSES: EPA has established a docket for this action under Docket ID No. EPA-HQ-OAR-2002-0093. All documents in the docket are listed in the www.regulations.gov index. Although listed in the index, some information is not publicly available, e.g., confidential business information or other information whose disclosure is restricted by statute. Certain other material, such as copyrighted material, will be publicly available only in hard copy. Publicly available docket materials are available either electronically in http://www.regulations.gov or in hard copy at the Air and Radiation Docket, EPA West, Room B-102, 1301 Constitution Ave., NW., Washington, DC. The Public Reading Room is open from 8:30 a.m. to 4:30 p.m., Monday through Friday, excluding legal holidays. The telephone number for the Public Reading Room is (202) 566-1744, and the telephone number for the Air and Radiation Docket is (202) 566-1742.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations, and telephone numbers. The Docket Center's mailing address for U.S. mail and the procedure for submitting comments to www.regulations.gov are not affected by the flooding and will remain the same.

Public Hearing. If a public hearing is held, it will be held at 10 a.m. at the EPA's Environmental Research Center Auditorium, Research Triangle Park, NC, or at an alternate site nearby.

FOR FURTHER INFORMATION CONTACT: For further information contact Mr. David Salman, EPA, Office of Air Quality Planning and Standards, Sector Policies and Programs Division, Coatings and Chemicals Group (E143-01), Research Triangle Park, NC 27711; telephone number (919) 541-0859; fax number (919) 541-0246; e-mail address: salman.dave@epa.gov.

SUPPLEMENTARY INFORMATION: Regulated Entities. Categories and entities potentially regulated by this action include:

Category | NAICS * code | Examples of potentially regulated entities
Industry | 336111 | Automobile manufacturing.
| 336112 | Light truck and utility vehicle manufacturing.
| 336211 | Motor vehicle body manufacturing.
| 336120 | Heavy duty truck manufacturing.
* North American Industry Classification System.

This table is not intended to be exhaustive, but rather provides a guide for readers regarding entities likely to be regulated by this action. To determine whether your facility is regulated by this action, you should examine the applicability criteria of the rule. If you have any questions regarding the applicability of this action to a particular entity, consult the person listed in the preceding FOR FURTHER INFORMATION CONTACT section.

World Wide Web (WWW). In addition to being available in the docket, an electronic copy of today's direct final Automobiles and Light-Duty Trucks NESHAP will also be available on the WWW through the Technology Transfer Network (TTN). Following the Administrator's signature, a copy of the NESHAP will be posted on the TTN's policy and guidance page for newly proposed or promulgated rules at http://www.epa.gov/ttn/oarpg/. The TTN at EPA's Web site provides information and technology exchange in various areas of air pollution control.

Comments. We are publishing the direct final rule amendments without prior proposal because we view the amendments as noncontroversial and do not anticipate adverse comments. However, in the Proposed Rules section of this Federal Register notice, we are publishing a separate document that will serve as the proposal to amend the Automobiles and Light-Duty Trucks NESHAP (40 CFR part 63, subpart IIII), the Miscellaneous Metal Parts NESHAP (40 CFR 63, subpart MMMM), and the Plastic Parts NESHAP (40 CFR 63, subpart PPPP) if material adverse comments are filed. Instructions for submitting comments are provided in that document. If we receive any material adverse comments on one or more distinct amendments, we will publish a timely withdrawal in the Federal Register informing the public which provisions will become effective, and which provisions are being withdrawn due to material adverse comment. We will address all public comments in a subsequent final rule, should the EPA determine to issue one. Any of the distinct amendments in today's direct final rule for which we do not receive material adverse comment will become effective on the previously mentioned date. We will not institute a second comment period on the direct final rule amendments. Any parties interested in commenting must do so at this time.

Judicial Review. Under section 307(b)(1) of the Clean Air Act (CAA), judicial review of the direct final rule amendments is available only by filing a petition for review in the United States Court of Appeals for the District of Columbia Circuit by February 20, 2007. Under section 307(d)(7)(B) of the CAA, only an objection to the direct final rule amendments that was raised with reasonable specificity during the period for public comment can be raised during judicial review. Moreover, under section 307(b)(2) of the CAA, the requirements established by the direct final rule amendments may not be challenged separately in any civil or criminal proceeding brought by EPA to enforce these requirements.

Outline. The information presented in this preamble is organized as follows:

I. Background

II. Amendments

III. Statutory and Executive Order Reviews

A. Executive Order 12866, Regulatory Planning and Review

B. Paperwork Reduction Act

C. Regulatory Flexibility Analysis

D. Unfunded Mandates Reform Act

E. Executive Order 13132, Federalism

F. Executive Order 13175, Consultation and Coordination With Indian Tribal Governments

G. Executive Order 13045, Protection of Children From Environmental Health Risks and Safety Risks

H. Executive Order 13211, Actions Concerning Regulations That Significantly Affect Energy Supply, Distribution, or Use

I. National Technology Transfer and Advancement Act

J. Congressional Review Act

I. Background

On April 26, 2004, we issued the final Automobiles and Light-Duty Trucks NESHAP (69 FR 22602). The final NESHAP established standards to control organic hazardous air pollutant (HAP) emissions from new and existing automobile and light-duty truck surface coating operations. Today's action amends the final rule by adding an option to include the coating of heavier vehicle bodies and parts for heavier vehicles in the affected source under this NESHAP. We are also making direct final rule amendments to the Miscellaneous Metal Parts NESHAP (40 CFR part 63, subpart MMMM), and the Plastic Parts NESHAP (40 CFR part 63, subpart PPPP) to maintain consistency between these rules and the Automobiles and Light-Duty Trucks NESHAP (40 CFR part 63, subpart IIII). None of the amendments will have any discernable effect on the stringency of the rules.

II. Amendments

The discussion in this section of the preamble pertains to the Automobiles and Light-Duty Trucks NESHAP (40 CFR part 63, subpart IIII) unless otherwise noted as applying to the Miscellaneous Metal Parts NESHAP (40 CFR part 63, subpart MMMM) or the Plastic Parts NESHAP (40 CFR part 63, subpart PPPP). Each of these rules has an early 2007 compliance date for existing sources.

The main focus of the final rule is the coating of new automobile or new light-duty truck bodies, and body parts for new automobiles or new light-duty trucks. The final rule also allows the owner or operator of an automobile and light-duty truck coating affected source to include in that affected source any coating operation which applies coatings to parts intended for use in new automobiles or new light-duty trucks or as aftermarket repair or replacement parts for automobiles or light-duty trucks which would otherwise be subject to the Miscellaneous Metal Parts NESHAP (40 CFR part 63, subpart MMMM) or the Plastic Parts NESHAP (40 CFR part 63, subpart PPPP). This makes it possible for such a facility to demonstrate compliance with requirements applicable to all of these activities within the final rule rather than having to demonstrate compliance with two or three rules.

Some automobile and light-duty truck surface coating facilities also coat heavier vehicle bodies or body parts for heavier vehicles. The heavier vehicle bodies or body parts for heavier vehicles may be coated using the same equipment and materials that are used to coat automobile and light-duty truck bodies or body parts for automobiles and light-duty trucks. The final rule does not currently provide an option for including the coating of heavier vehicle bodies or body parts for heavier vehicles in the automobile and light-duty truck affected source. Lacking such an option, a facility which coats automobiles or light-duty trucks and also coats heavier vehicle bodies or body parts for heavier vehicles would be subject to the Automobiles and Light-Duty Trucks NESHAP (40 CFR part 63, subpart IIII) and also would be subject to the Miscellaneous Metal Parts NESHAP (40 CFR part 63, subpart MMMM) or the Plastic Parts NESHAP (40 CFR part 63, subpart PPPP). Adding the option of including the coating of heavier vehicle bodies or body parts for heavier vehicles in the automobile and light-duty truck affected source would make it possible for such a facility to demonstrate compliance with requirements applicable to all of these activities within the final rule rather than having to demonstrate compliance with two or three rules.

Some facilities that coat only heavier vehicle bodies or body parts for heavier vehicles have paint shops that are designed and operated in the same manner as paint shops that are used to coat automobile and light-duty truck bodies and body parts for automobiles and light-duty trucks. The permit requirements for these heavier vehicle paint shops are often structured in the same way as permit requirements for automobile and light-duty truck paint shops. The volatile organic compounds (VOC) compliance demonstration procedures that are used for these heavier vehicle paint shops are often the same as the VOC compliance demonstration procedures that are used for automobile and light-duty truck paint shops and very similar to the HAP compliance demonstration procedures in the Automobiles and Light-Duty Trucks NESHAP (40 CFR part 63, subpart IIII). Without the option of including these heavier vehicle paint shops under the Automobiles and Light-Duty Trucks NESHAP (40 CFR part 63, subpart IIII), these heavier vehicle paint shops will have to demonstrate compliance both with VOC requirements using automobile and light-duty truck procedures and HAP requirements using very different procedures as specified in the other NESHAP. Adding the option of including the coating of heavier vehicle bodies or body parts for heavier vehicles in the automobile and light-duty truck affected source would make it possible for such a facility to demonstrate compliance with HAP requirements using the very similar procedures in the Automobiles and Light-Duty Trucks NESHAP (40 CFR part 63, subpart IIII).

We, therefore, have amended the final rule by adding an option to include the coating of heavier vehicle bodies, body parts for heavier vehicles, and parts for heavier vehicles in the affected source under this NESHAP. The direct final amendments use the term “other motor vehicle” which is defined as “a self-propelled vehicle designed for transporting persons or property on a street or highway that has a gross vehicle weight rating over 8,500 pounds.” The emissions limits in the Automobiles and Light-Duty Trucks NESHAP (40 CFR 63, subpart IIII) are more stringent than the emissions limits in the Miscellaneous Metal Parts NESHAP (40 CFR part 63, subpart MMMM) and the Plastic Parts NESHAP (40 CFR part 63, subpart PPPP). As a result, any heavier vehicle coating operation that is included in this NESHAP will be required to achieve the same or greater organic HAP emission reduction than it would have been required to achieve under the other NESHAP. The first monthly compliance period for existing sources in the Automobiles and Light-Duty Trucks NESHAP begins on April 26, 2007 and ends on May 31, 2007. The first 12-month compliance period for existing sources in the Miscellaneous Metal Parts NESHAP begins on January 2, 2007 and ends on February 29, 2008. The first 12-month compliance period for existing sources in the Plastic Parts NESHAP begins on April 19, 2007 and ends on May 31, 2008. We believe the earlier start of the first compliance period for existing sources in the Miscellaneous Metal Parts NESHAP is inconsequential, particularly since the first compliance period for existing sources in the Automobiles and Light-Duty Trucks NESHAP will end sooner and continuous compliance with the Automobiles and Light-Duty Trucks NESHAP will be demonstrated on a monthly basis as opposed to the 12-month rolling basis used in the other two rules.

We have amended the Miscellaneous Metal Parts NESHAP (40 CFR part 63, subpart MMMM) to allow the coating of metal heavier vehicle bodies, metal body parts for heavier vehicles, and metal parts for heavier vehicles to comply with the Automobiles and Light-Duty Trucks NESHAP (40 CFR 63, subpart IIII) in lieu of complying with the Miscellaneous Metal Parts NESHAP. We have amended the Plastic Parts NESHAP (40 CFR part 63, subpart PPPP) to allow the coating of heavier plastic vehicle bodies, plastic body parts for heavier vehicles, and plastic parts for heavier vehicles to comply with the Automobiles and Light-Duty Trucks NESHAP (40 CFR 63, subpart IIII) in lieu of complying with the Plastic Parts NESHAP.

III. Statutory and Executive Order Reviews

A. Executive Order 12866, Regulatory Planning and Review

The Office of Management and Budget (OMB) initially notified EPA that it considered this action a “significant regulatory action” within the meaning of Executive Order 12866 (58 FR 51735, October 4, 1993). Nevertheless, after reviewing information regarding this action, OMB waived review of this action.

B. Paperwork Reduction Act

This action does not impose any new information collection burden. This action adds optional provisions to the final standards. OMB has previously approved the information collection requirements contained in the existing regulations (40 CFR part 63, subpart IIII) under the provisions of the Paperwork Reduction Act, 44 U.S.C. 3501, et seq., and has assigned OMB control number 2060-0550, EPA ICR No. 2045.02. A copy of the Information Collection Request (ICR) may be obtained from Ms. Susan Auby by mail at the Office of Environmental Information, Collection Strategies Division (2822), EPA, 1200 Pennsylvania Avenue, NW., Washington, DC 20460, by e-mail at auby.susan@epa.gov, or by calling (202) 566-1672. You also may download a copy from the Internet at http://www.epa.gov/icr. Include the ICR number in any correspondence.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations are listed in 40 CFR part 9.

C. Regulatory Flexibility Analysis

EPA has determined that it is not necessary to prepare a regulatory flexibility analysis in connection with the direct final rule amendments.

For purposes of assessing the impacts of today's direct final rule on small entities, small entity is defined as: (1) A small business according to Small Business Administration size standards for companies identified by NAICS codes 336111 (automobile manufacturing) and 336112 (light truck and utility vehicle manufacturing) with 1,000 or fewer employees; (2) a small governmental jurisdiction that is a government of a city, county, town, school district, or special district with a population of less than 50,000; and (3) a small organization that is any not-for-profit enterprise which is independently owned and operated and is not dominant in its field. Based on the above definition, there are no small entities presently engaged in automobile and light-duty truck surface coating.

After considering the economic impacts of the final rule on small entities, EPA has concluded that this action will not have a significant economic impact on a substantial number of small entities. This is based on the observation that the final rule affects no small entities since none are engaged in the surface coating of automobiles and light-duty trucks.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any 1 year. Before promulgating a rule for which a written statement is needed, section 205 of the UMRA generally requires us to identify and consider a reasonable number of regulatory alternatives and adopt the least costly, most cost-effective, or least burdensome alternative that achieves the objectives of the rule. The provisions of section 205 do not apply when they are inconsistent with applicable law. Moreover, section 205 allows us to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that the direct final rule amendments do not contain a Federal mandate that may result in expenditures of $100 million or more for State, local, and tribal governments, in the aggregate, or the private sector in any 1 year. The direct final rule amendments provide the option of including surface coating of heavier motor vehicles under this rule and, therefore, add no additional burden on sources. Thus, the direct final rule amendments are not subject to the requirements of sections 202 and 205 of the UMRA.

E. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

The direct final rule amendments do not have federalism implications. They will not have substantial direct effects on the States, on the relationship between the national government and the States, or on the distribution of power and responsibilities among the various levels of government, as specified in Executive Order 13132. No facilities subject to the direct final rule amendments are owned by State or local governments. Therefore, State and local governments will not have any direct compliance costs resulting from the direct final rule amendments. Furthermore, the direct final rule amendments do not require these governments to take on any new responsibilities. Thus, Executive Order 13132 does not apply to the direct final rule amendments.

F. Executive Order 13175, Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” The direct final rule amendments do not have tribal implications as specified in Executive Order 13175. They will not have substantial direct effects on tribal governments, on the relationship between the Federal Government and Indian tribes, or on the distribution of power and responsibilities between the Federal Government and Indian tribes, because we are not aware of any Indian tribal governments or communities affected by the direct final rule amendments. Thus, Executive Order 13175 does not apply to the direct final rule amendments.

G. Executive Order 13045, Protection of Children From Environmental Health Risks and Safety Risks

Executive Order 13045 (62 FR 19885, April 23, 1997) applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Executive Order has the potential to influence the regulation. The direct final rule amendments are not subject to Executive Order 13045 because they are based on technology performance and not on health or safety risks.

H. Executive Order 13211, Actions Concerning Regulations That Significantly Affect Energy Supply, Distribution, or Use

The direct final rule amendments are not a “significant energy action” as defined in Executive Order 13211, “Actions Concerning Regulations That Significantly Affect Energy Supply, Distribution, or Use” (66 FR 28355, May 22, 2001) because they are not likely to have a significant adverse effect on the supply, distribution, or use of energy. The direct final rule amendments provide the option of including surface coating of heavier motor vehicles under this rule and, therefore, add no additional burden on sources. We have, therefore, concluded that the direct final rule amendments are not likely to have any adverse energy effects.

I. National Technology Transfer and Advancement Act

Section 12(d) of the National Technology Transfer and Advancement Act (NTTAA) of 1995, Public Law No. 104-113, 12(d) (15 U.S.C. 272 note) directs EPA to use voluntary consensus standards (VCS) in its regulatory activities unless to do so would be inconsistent with applicable law or otherwise impractical. VCS are technical standards (e.g., materials specifications, test methods, sampling procedures, and business practices) that are developed or adopted by VCS bodies. The NTTAA directs EPA to provide Congress, through OMB, explanations when the Agency decides not to use available and applicable VCS. The direct final rule amendments do not involve technical standards. Therefore, EPA is not considering the use of any VCS.

J. Congressional Review Act

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. EPA will submit a report containing the direct final rule amendments and other required information to the United States Senate, the United States House of Representatives, and the Comptroller General of the United States prior to publication of the direct final rule amendments in the Federal Register. A major rule cannot take effect until 60 days after it is published in the Federal Register. The direct final rule amendments are not a “major rule” as defined by 5 U.S.C. 804(2). The direct final rule amendments will be effective on February 20, 2007.

List of Subjects in 40 CFR Part 63

Environmental protection, Air pollution control, Hazardous substances, and Reporting and recordkeeping requirements.

Dated: December 18, 2006.
Stephen L. Johnson,
Administrator.

For the reasons set out in the preamble, Title 40, chapter I, part 63 of the Code of Federal Regulations is amended as follows:

PART 63—[AMENDED]

1. The authority citation for part 63 continues to read as follows:

Authority: 42 U.S.C. 7401, et seq.

Subpart IIII—[Amended]

2. Section 63.3080 is revised to read as follows:

§ 63.3080 What is the purpose of this subpart?

This subpart establishes national emission standards for hazardous air pollutants (NESHAP) for facilities which surface coat new automobile or new light-duty truck bodies or body parts for new automobiles or new light-duty trucks. This subpart also establishes NESHAP for facilities which surface coat new other motor vehicle bodies or body parts for new other motor vehicles which you choose to include in your affected source pursuant to § 63.3082(c). This subpart also establishes requirements to demonstrate initial and continuous compliance with the emission limitations.

3. Section 63.3081 is amended by revising paragraph (b) to read as follows:

§ 63.3081 Am I subject to this subpart?

* * * * *

(b) You are subject to this subpart if you own or operate a new, reconstructed, or existing affected source, as defined in § 63.3082, that is located at a facility which applies topcoat to new automobile or new light-duty truck bodies or body parts for new automobiles or new light-duty trucks, and that is a major source, is located at a major source, or is part of a major source of emissions of hazardous air pollutants (HAP). You are subject to this subpart if you own or operate a new, reconstructed, or existing affected source, as defined in § 63.3082, in which you choose to include, pursuant to § 63.3082(c), any coating operations which apply coatings to new other motor vehicle bodies or body parts for new other motor vehicles; parts intended for use in new automobiles, new light-duty trucks, or new other motor vehicles; or aftermarket repair or replacement parts for automobiles, light-duty trucks, or other motor vehicles; and the affected source is located at a facility that is a major source, is located at a major source, or is part of a major source of emissions of HAP. A major source of HAP emissions is any stationary source or group of stationary sources located within a contiguous area and under common control that emits or has the potential to emit any single HAP at a rate of 9.07 megagrams (Mg) (10 tons) or more per year or any combination of HAP at a rate of 22.68 Mg (25 tons) or more per year.

* * * * *

4. Section 63.3082 is amended by revising paragraphs (c) and (e) to read as follows:

§ 63.3082 What parts of my plant does this subpart cover?

* * * * *

(c) In addition, you may choose to include in your affected source, and thereby make subject to the requirements of this subpart, any coating operations, as defined in § 63.3176, which would otherwise be subject to the National Emission Standards for Hazardous Air Pollutants for Surface Coating of Miscellaneous Metal Parts and Products (subpart MMMM of this part) or the National Emission Standards for Hazardous Air Pollutants for Surface Coating of Plastic Parts and Products (subpart PPPP of this part) which apply coatings to new other motor vehicle bodies or body parts for new other motor vehicles, parts intended for use in new automobiles, new light-duty trucks, or new other motor vehicles, or aftermarket repair or replacement parts for automobiles, light-duty trucks, or other motor vehicles.

* * * * *

(e) An affected source is a new affected source if:

(1) You commenced its construction after December 24, 2002; and

(2) The construction is of a completely new automobile and light-duty truck assembly plant, automobile and light-duty truck paint shop, automobile and light-duty truck topcoat operation, other motor vehicle assembly plant, other motor vehicle paint shop, or other motor vehicle topcoat operation where previously no automobile and light-duty truck assembly plant, automobile and light-duty truck assembly paint shop, or automobile and light-duty truck assembly topcoat operation had existed; and

(i) No other motor vehicle assembly plant, other motor vehicle paint shop, or other motor vehicle topcoat operation had existed previously; or

(ii) No previously existing other motor vehicle assembly plant, other motor vehicle paint shop, or other motor vehicle topcoat operation is subject to this subpart; or

(iii) If the facility was previously not a major source for HAP, no previously existing other motor vehicle assembly plant, other motor vehicle paint shop, or other motor vehicle topcoat operation is made part of the affected source under this subpart.

* * * * *

5. Section 63.3110 is amended by revising paragraph (b) to read as follows:

§ 63.3110 What notifications must I submit?

* * * * *

(b) You must submit the Initial Notification required by § 63.9(b) for a new or reconstructed affected source no later than 120 days after initial startup or 120 days after June 25, 2004, whichever is later. For an existing affected source, you must submit the Initial Notification no later than 1 year after April 26, 2004. Existing sources that have previously submitted notifications of applicability of this rule pursuant to § 112(j) of the CAA are not required to submit an Initial Notification under § 63.9(b) except to identify and describe all additions to the affected source made pursuant to § 63.3082(c). If you elect to include the surface coating of new other motor vehicle bodies, body parts for new other motor vehicles, parts for new other motor vehicles, or aftermarket repair or replacement parts for other motor vehicles in your affected source pursuant to § 63.3082(c) and your affected source has an initial startup before February 20, 2007, then you must submit an Initial Notification of this election no later than 120 days after initial startup or February 20, 2007, whichever is later.

* * * * *

6. Section 63.3176 is amended by:

a. Removing the definition of “Automobile and/or light-duty truck assembly plant”.

b. Adding in alphabetical order definitions for “Automobile and light-duty truck assembly plant,” “Other motor vehicle,” and “Other motor vehicle assembly plant” to read as follows:

§ 63.3176 What definitions apply to this subpart?

* * * * *

Automobile and light-duty truck assembly plant means a facility which assembles automobiles or light-duty trucks, including coating facilities and processes.

* * * * *

Other motor vehicle means a self-propelled vehicle designed for transporting persons or property on a street or highway that has a gross vehicle weight rating over 8,500 pounds. You may choose to make the coating of other motor vehicles subject to this subpart pursuant to § 63.3082(c).

Other motor vehicle assembly plant means a facility which assembles other motor vehicles, including coating facilities and processes.

* * * * *

Subpart MMMM—[Amended]

7. Section 63.3881 is amended by revising the last sentence of paragraph (d) to read as follows:

§ 63.3881 Am I subject to this subpart?

* * * * *

(d) * * * Surface coating operations on metal parts or products (e.g., parts for motorcycles or lawnmowers) not intended for use in automobiles, light-duty trucks, or other motor vehicles as defined in § 63.3176 cannot be made part of your affected source under subpart IIII of this part.

* * * * *

Subpart PPPP—[Amended]

8. Section 63.4481 is amended by revising the last sentence of paragraph (d) to read as follows:

§ 63.4481 Am I subject to this subpart?

* * * * *

(d) * * * Surface coating operations on plastic parts or products (e.g., parts for motorcycles or lawnmowers) not intended for use in automobiles, light-duty trucks, or other motor vehicles as defined in § 63.3176 cannot be made part of your affected source under subpart IIII of this part.

* * * * *

[FR Doc. E6-21975 Filed 12-21-06; 8:45 am]

BILLING CODE 6560-50-P